DEPARTMENT OF HOMELAND SECURITY

Coast Guard

33 CFR Part 110

[Docket Number USCG-2025-0579]

RIN 1625-AA01

Anchorage Ground; Neches River, Port Arthur, TX

AGENCY: Coast Guard, DHS.

ACTION: Notice of proposed rulemaking.

SUMMARY: The Coast Guard is proposing to establish an anchorage ground on the Neches River near Port Arthur, TX. This action is necessary to accommodate increased vessel traffic volume, improve navigational safety for vessels transiting the Sabine-Neches Waterway and provide for the overall safe and efficient flow of vessel traffic and commerce. We invite your comments on this proposed rulemaking.

DATES: Comments and related material must be received by the Coast Guard on or before September 3, 2025.

ADDRESSES: You may submit comments identified by docket number USCG-2025-0579 using the Federal Decision-Making Portal at https://www.regulations.gov. See the “Public Participation and Request for Comments” portion of the SUPPLEMENTARY INFORMATION section for further instructions on submitting comments.

FOR FURTHER INFORMATION CONTACT: If you have questions about this proposed rulemaking, call or email Mr. Douglas G. Hendrix, Marine Safety Unit (MSU) Port Arthur, U.S. Coast Guard; telephone 409-719-5086, email douglas.g.hendrix2@uscg.mil.

SUPPLEMENTARY INFORMATION:

I. Table of Abbreviations

CFR Code of Federal Regulations

COTP Captain of the Port MSU Port Arthur

DHS Department of Homeland Security

FR Federal Register

NPRM Notice of proposed rulemaking

§ Section

U.S.C. United States Code

II. Background, Purpose, and Legal Basis

The Sabine-Neches Waterway is the maritime “highway” that supports the movement of more than 128 million tons of cargo each year. This cargo includes natural gas, crude oil, gasoline, jet fuel, chemicals, steel, lumber, grain and many other products. The waterway is vital to the economy of southeast Texas and the United States. The waterway consists of approximately 57 nautical miles of waterway extending from offshore to the Port of Beaumont. The narrowest portion of this waterway is 400-feet in width and approximately 25.5 nautical miles (29.5 statute miles) in length.

The existing channel has not been improved since the mid-1960s while ships have continued to increase in length, beam and draft. Recent expansions in the oil and liquefied gas industries have resulted in increases in the number of docks and vessels operating on the Sabine-Neches Waterway. The combination of increased vessel traffic and their dimensions requires the implementation of operating protocols in order to ensure the safety of all vessel traffic on the waterway.

In 2011, the U.S. Army Corps of Engineers signed the “Chief's Report” on a proposed deepening of the Sabine-Neches Waterway. This concluded a nearly 14-year assessment of plans submitted by the Sabine-Neches Navigation District, the local non-federal sponsor for dredging projects, to deepen the waterway from 40 feet to 48 feet. In addition to deepening the channel, the design and assessment phase planned for five anchorage basins for use by deep draft vessels.

In June 2014, the President of the United States signed the Water Resources Reform and Development Act (WRRDA) into law—the final step in the federal approval process. In 2018 federal funds were allocated which permitted the beginning of the construction process and in late 2020 the dredging of Anchorage Basin 1 was completed.

The Coast Guard proposes to establish anchorage ground regulations in order to facilitate use of navigable waterways by both commercial and recreational vessels in Port Arthur, TX. This notice of proposed rulemaking (NPRM) identifies the location of the first anchorage, Anchorage 1, approved by the U.S. Army Corps of Engineers and the Sabine Neches Navigation District (SNND), and solicits comments from interested stakeholders to inform the development of anchorage regulations.

The first anchorage, called Anchorage 1, is located in the river oxbow located approximately 1.8 nautical miles west of the Rainbow Bridge in Port Arthur, TX. Additional anchorage ground locations are still under environmental review.

III. Discussion of Proposed Rule

The Coast Guard is proposing to establish new Anchorage Ground 1, as designed and constructed as part of the Sabine-Neches Waterway Deepening Project. Further, the proposed rule would establish usage requirements to ensure the anchorage is available and used for its intended purpose. Establishing this anchorage in the Code of Federal Regulations (CFR) and defining it on navigation charts would remove ambiguity as to the anchorage's location and intended usage.

The proposed rule would limit usage of the anchorage to commercial vessels greater than 450-feet in length calling on commercial facilities on the Sabine-Neches Waterway. The placement of fixed moorings, piles or stakes would be prohibited. This anchorage would not be intended to be a long-term anchorage. Use of the anchorage would be limited to periods of 48-hours or less unless otherwise authorized by the Captain of the Port MSU Port Arthur (COTP). Additionally, use of the anchorage would be prohibited when the COTP sets Port Condition Zulu. These regulations are necessary to ensure that an adequate anchorage area remains available for the efficient facilitation of commerce. The regulatory text we are proposing appears at the end of this document.

IV. Regulatory Analyses

We developed this proposed rule after considering numerous statutes and Executive orders related to rulemaking. Below we summarize our analyses based on a number of these statutes and Executive orders.

A. Regulatory Planning and Review

Executive Orders 12866 (Regulatory Planning and Review) and 13563 (Improving Regulation and Regulatory Review) direct agencies to assess the costs and benefits of available regulatory alternatives and, if regulation is necessary, to select regulatory approaches that maximize net benefits. Executive Order 13563 emphasizes the importance of quantifying both costs and benefits, of reducing costs, of harmonizing rules, and of promoting flexibility.

The Office of Management and Budget (OMB) has not designated this proposed rule a “significant regulatory action” under section 3(f) of Executive Order 12866. Accordingly, OMB has not reviewed it.

This regulatory action determination is based on the historical use of this area for commercial ships and the nearby availability of space for smaller, shallow draft vessels to anchor.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this proposed rule would not have a significant economic impact on a substantial number of small entities.

While some owners or operators of vessels intending to use the anchorage may be small entities, for the reasons stated in section IV.A above, this proposed rule would not have a significant economic impact on any vessel owner or operator. The anchorage area is not a popular or productive fishing location, nor is it frequented by recreational vessels. Typical surface navigation will not be affected as this area has been historically used as an anchorage area for deep draft ships.

If you think that your business, organization, or governmental jurisdiction qualifies as a small entity and that this proposed rule would have a significant economic impact on it, please submit a comment (see ADDRESSES) explaining why you think it qualifies and how and to what degree this rule would economically affect it.

Under section 213(a) of the Small Business Regulatory Enforcement Fairness Act of 1996 (Pub. L. 104-121), we want to assist small entities in understanding this proposed rule. If the proposed rule would affect your small business, organization, or governmental jurisdiction and you have questions concerning its provisions or options for compliance, please call or email the person listed in the FOR FURTHER INFORMATION CONTACT section. The Coast Guard will not retaliate against small entities that question or complain about this proposed rule or any policy or action of the Coast Guard.

C. Collection of Information

This proposed rule would not call for a new collection of information under the Paperwork Reduction Act of 1995 (44 U.S.C. 3501-3520).

D. Federalism and Indian Tribal Governments

A rule has implications for federalism under Executive Order 13132 (Federalism), if it has a substantial direct effect on the States, on the relationship between the National Government and the States, or on the distribution of power and responsibilities among the various levels of government. We have analyzed this proposed rule under that Order and have determined that it is consistent with the fundamental federalism principles and preemption requirements described in Executive Order 13132.

Also, this proposed rule does not have tribal implications under Executive Order 13175 (Consultation and Coordination with Indian Tribal Governments) because it would not have a substantial direct effect on one or more Indian tribes, on the relationship between the Federal Government and Indian tribes, or on the distribution of power and responsibilities between the Federal Government and Indian tribes. If you believe this proposed rule has implications for federalism or Indian tribes, please call or email the person listed in the FOR FURTHER INFORMATION CONTACT section.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule would not result in such an expenditure, we do discuss the potential effects of this proposed rule elsewhere in this preamble.

F. Environment

We have analyzed this proposed rule under Department of Homeland Security Directive 023-01, Rev. 1, associated implementing instructions, and Environmental Planning COMDTINST 5090.1 (series), which guide the Coast Guard in complying with the National Environmental Policy Act of 1969 (42 U.S.C. 4321-4370f), and have made a preliminary determination that this action is one of a category of actions that do not individually or cumulatively have a significant effect on the human environment. This proposed rule involves establishing anchorage regulations for a newly constructed anchorage area. Normally such actions are categorically excluded from further review under paragraph L59(a) of Appendix A, Table 1 of DHS Instruction Manual 023-01-001-01, Rev. 1. A preliminary Record of Environmental Consideration supporting this determination is available in the docket. For instructions on locating the docket, see the ADDRESSES section of this preamble. We seek any comments or information that may lead to the discovery of a significant environmental impact from this proposed rule.

V. Public Participation and Request for Comments

We view public participation as essential to effective rulemaking and will consider all comments and material received during the comment period. Your comment can help shape the outcome of this rulemaking. If you submit a comment, please include the docket number for this rulemaking, indicate the specific section of this document to which each comment applies, and provide a reason for each suggestion or recommendation.

Submitting comments. We encourage you to submit comments through the Federal Decision-Making Portal at https://www.regulations.gov. To do so, go to https://www.regulations.gov, type USCG-2025-0579 in the search box and click “Search.” Next, look for this document in the Search Results column, and click on it. Then click on the Comment option. If you cannot submit your material by using https://www.regulations.gov, call or email the person in the FOR FURTHER INFORMATION CONTACT section of this proposed rule for alternate instructions.

Viewing material in docket. To view documents mentioned in this proposed rule as being available in the docket, find the docket as described in the previous paragraph, and then select “Supporting & Related Material” in the Document Type column. Public comments will also be placed in our online docket and can be viewed by following instructions on the https://www.regulations.gov Frequently Asked Questions web page. Also, if you click on the Dockets tab and then the proposed rule, you should see a “Subscribe” option for email alerts. The option will notify you when comments are posted, or a final rule is published.

We review all comments received, but we will only post comments that address the topic of the proposed rule. We may choose not to post off-topic, inappropriate, or duplicate comments that we receive.

Personal information. We accept anonymous comments. Comments we post to https://www.regulations.gov will include any personal information you have provided. For more about privacy and submissions to the docket in response to this document, see DHS's eRulemaking System of Records notice (85 FR 14226, March 11, 2020).

List of Subjects in 33 CFR Part 110

Anchorage grounds.

For the reasons discussed in the preamble, the Coast Guard is proposing to amend 33 CFR part 110 as follows:

PART 110—ANCHORAGE REGULATIONS

1. The authority citation for part 110 continues to read as follows:

Authority: 33 U.S.C. 2071; 46 U.S.C. 70006, 70034; 33 CFR 1.05-1; Department of Homeland Security Delegation No. 00170.1, Revision No. 01.3.

2. Add § 110.198 to subpart B to read as follows:

§ 110.198 Neches River, Port Arthur, TX.

(a) Anchorage Basin 1. The waters adjacent to the Neches River encompassed by a line connecting the following points (NAD83):

Latitude | Longitude
29 59′13.885″ | 093 54′36.971″
29 59′22.667″ | 093 54′32.087″
29 59′31.530″ | 093 54′34.034″
29 59′32.525″ | 093 54′31.358″
29 59′21.325″ | 093 54′23.455″
29 59′17.148″ | 093 54′19.485″
29 59′18.391″ | 093 54′27.317″
29 59′12.547″ | 093 54′28.540″

(b) Regulations. (1) The anchorage grounds described in paragraph (a) of this section are for short duration use by commercial vessels greater than 450-feet in length calling on commercial facilities on the Sabine-Neches Waterway.

(2) Except when stress of weather or adverse tides or currents make sailing impractical or hazardous, vessels shall not anchor in the anchorage area for periods exceeding 48-hours unless expressly authorized by the Captain of the Port MSU Port Arthur (COTP) to anchor for longer periods.

(3) The anchor(s) of anchored vessels must be placed within the anchorage area so that no portion of the hull or rigging shall at any time extend outside the boundaries of the anchorage area.

(4) Any vessel anchored in this area shall be capable of moving and when ordered to move by the Captain of the Port shall do so with reasonable promptness.

(5) Fixed moorings, piles or stakes, and floats or buoys for marking anchorages or moorings in place are prohibited.

(6) In an emergency the COTP may shift the position of any unattended vessel moored in or near any anchorage.

Dated: July 22, 2025.
David C. Barata,
Rear Admiral, U.S. Coast Guard, Commander, U.S. Coast Guard Heartland (Eighth) District.

[FR Doc. 2025-14688 Filed 8-1-25; 8:45 am]

BILLING CODE 9110-04-P